DEPARTMENT OF TRANSPORTATION

Federal Aviation Administration

Notice of Availability of Recommendations From the Changed Product Rule (CPR) International Authorities Working Group (IAWG)

AGENCY: Federal Aviation Administration (FAA), Department of Transportation (DOT).

ACTION: Notice.

SUMMARY: The FAA announces the availability of recommendations from the CPR IAWG. In December of 2020, Congress passed the Aircraft Certification, Safety, and Accountability Act (ACSAA). Section 117 of the ACSAA required the FAA to form an international team to address areas of concern related to the CPR. The CPR IAWG has recommended specific areas where engagement with the public would be beneficial and broaden the scope of the discussions to a wider audience. The FAA plans to solicit public input at a public meeting which will be announced in a future notice.

ADDRESSES: The CPR IAWG recommendations are available on the FAA's Information for Applicants and Design Approval Holders web page at https://www.faa.gov/aircraft/air_cert/design_approvals/dah.

FOR FURTHER INFORMATION CONTACT: Sue McCormick, Strategic Policy for Systems Standards, Aviation Safety, email 9-AVS-DAH-Info@faa.gov.

SUPPLEMENTARY INFORMATION: Section 117 of the Aircraft Certification Safety and Accountability Act (ACSAA) of 2020 (Pub. L. 116-260) directed the FAA to exercise leadership in the creation of international policies and standards related to the review and reevaluation of the issuance of amended type certificates. The FAA was directed to examine and address recommendations from the entities listed in Section 121(c) ¹ of the ACSAA related to the issuance of amended type certificates; to reevaluate existing assumptions and practices inherent in the amended type certificate process and assess whether such assumptions and practices are valid; and ensure, to the greatest extent practicable, that Federal Regulations related to the issuance of amended type certificates are harmonized with the regulations of the other international states of design. The FAA initiated the CPR IAWG in June of 2021 and conducted a comprehensive study of the CPR process, including regulatory requirements (14 CFR 21.19 and 21.101) and guidance material, with international authorities ² in parallel with an independent study per section 136 of the ACSAA.

¹ The National Transportation Safety Board, the Joint Authorities Technical Review, the Inspector General of the Department of Transportation, the Safety Oversight and Certification Advisory Committee, or any special committee thereof, made recommendations in response to the accident of Lion Air flight 610 on October 29, 2018 and the accident of Ethiopian Airlines flight 302 on March 10, 2019.

² European Union Aviation Safety Agency, National Civil Aviation Agency of Brazil (ANAC), Transport Canada, Japan Civil Aviation Board, and Civil Aviation Administration of China.

The IAWG, after extensive in-depth discussions and research, proposes both rulemaking and guidance improvements for the CPR process. The IAWG identified areas where additional review is needed in order to achieve alignment to the fullest extent possible. The IAWG also recommends engagement with industry in specific areas for advice and additional information.

The FAA encourages industry review of the CRP IAWG recommendations. The FAA will be seeking public input and comments during a forthcoming public meeting regarding the recommendations.

Issued in Washington, DC, on December 12, 2022.
Victor Wicklund,
Acting Director, Policy and Innovation Division, Aircraft Certification Service.

[FR Doc. 2022-27446 Filed 12-16-22; 8:45 am]

BILLING CODE 4910-13-P